DEPARTMENT OF COMMERCE

International Trade Administration

[A-489-826]

Certain Hot-Rolled Steel Flat Products From Republic of Turkey: Preliminary Results of Antidumping Duty Administrative Review and Preliminary Determination of No Shipments; 2017-2018

AGENCY: Enforcement and Compliance, International Trade Administration, Department of Commerce.

SUMMARY: The Department of Commerce (Commerce) preliminarily finds that Colakoglu Metalurji A.S. and Colakoglu Dis Ticaret A.S. (collectively, Colakoglu), a producer and exporter of certain hot-rolled steel flat products (hot-rolled steel) from the Republic of Turkey (Turkey), sold subject merchandise in the United States at prices below normal value during the period of review (POR) October 1, 2017 through September 30, 2018. In addition, Commerce preliminarily determines that Eregli Demir ve Celik Fabrikalari T.A.S. and Iskenderun Iron & Steel Works Co. (collectively, Erdemir Group) had no shipments during the POR. We invite all interested parties to comment on these preliminary results.

DATES: Applicable December 17, 2019.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

Commerce is conducting an administrative review of the antidumping duty order on hot-rolled steel from Turkey in accordance with section 751(a)(1)(B) of Tariff Act of 1930, as amended (the Act).¹ On December 11, 2018, in accordance with 19 CFR 351.221(c)(1)(i), we initiated this administrative review of the Order covering thirteen producers and/or exporters of the subject merchandise.²

¹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

² See Initiation of Antidumping and Countervailing Duty Administrative Reviews, 83 FR 63615 (December 11, 2018). The thirteen producers and/or exporters are: (1) Agir Haddecilik A.S.; (2) Cag Celik Demir ve Celik; (3) Colakoglu Dis Ticaret AS; (4) Colakoglu Metalurji, AS; (5) Eregli Demir ve Celik Fabrikalari T.A.S.; (6) Gazi Metal Mamulleri Sanayi Ve Ticaret A.S.; (7) Habas Industrial and Medical Gases Production Industries Inc.; (8) Habas Sinai ve Tibbi Gazlar Istihsal Endustrisi; (9) Iskenderun Iron & Steel Works Co.; (10) MMK Atakas Metalurji; (11) Ozkan Iron and Steel Ind.; (12) Seametal San ve Dis Tic; and (13) Tosyali Holding (Toscelik Profile and Sheet Ind. Co., Toscelik Profil ve Sac).

Commerce exercised its discretion to toll all deadlines affected by the partial federal government closure from December 22, 2018 through the resumption of operations on January 28, 2019.³ On August 6, 2019, we postponed the deadline for the preliminary results of this review until November 8, 2019.⁴ On November 4, 2019, we postponed the preliminary results of this review until December 10, 2019.⁵ For a detailed description of the events that followed the initiation of this review, see the Preliminary Decision Memorandum, dated concurrently with these preliminary results and hereby adopted by this notice.⁶

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁴ See Memorandum, “Certain Hot-Rolled Steel Flat Products from the Republic of Turkey: Extension of Deadline for Preliminary Results of Antidumping Duty Administrative Review; 2017-2018,” dated August 6, 2019.

⁵ See Memorandum, “Certain Hot-Rolled Steel Flat Products from the Republic of Turkey: 2nd Extension of Deadline for Preliminary Results of Antidumping Duty Administrative Review; 2017-2018,” dated November 4, 2019.

⁶ See Memorandum, “Decision Memorandum for the Preliminary Results of Antidumping Duty Administrative Review and Preliminary Determination of No Shipments: Certain Hot-Rolled Steel Flat Products from Turkey; 2017-2018,” dated concurrently with, and hereby adopted by, this notice (Preliminary Decision Memorandum).

Scope of the Order

The merchandise covered by the Order is certain hot-rolled steel flat products. For a complete description of the scope of the Order, see the Preliminary Decision Memorandum.⁷

⁷ Id.

Methodology

Commerce is conducting this review in accordance with section 751(a) of the Act. Constructed export prices are calculated in accordance with section 772 of the Act. Normal value is calculated in accordance with section 773 of the Act. For a full description of the methodology underlying our conclusions, see the Preliminary Decision Memorandum. A list of topics discussed in the Preliminary Decision Memorandum is attached as an appendix to this notice.

The Preliminary Decision Memorandum is a public document and is on file electronically via Enforcement and Compliance's Antidumping and Countervailing Duty Centralized Electronic Service System (ACCESS). ACCESS is available to registered users at http://access.trade.gov, and to all parties in the Central Records Unit, Room B8024 of the main Commerce building. The signed and electronic versions of the Preliminary Decision Memorandum are identical in content.

Preliminary Determination of No Shipments

Among the companies under review, Eregli Demir ve Celik Fabrikalari T.A.S. and Iskenderun Iron & Steel Works Co. (collectively, the Erdemir Group) properly filed a certification reporting that they made no shipments of subject merchandise to the United States during the POR.⁸ Based on the certification submitted and our analysis of Customs and Border Protection (CBP) information, we preliminarily determine that the Erdemir Group had no shipments during the POR.⁹ Consistent with our standard practice,¹⁰ Commerce finds that it is not appropriate to rescind the review with respect to Erdemir Group, but rather to complete the review and issue appropriate instructions to CBP based on the final results of this review.

⁸ In the underlying investigation, Commerce collapsed Eregrli Demir ve Celik Fabrikalari T.A.S. and Iskenderun Iron & Steel Works Co. (collectively, Erdemir Group) as a single entity. See Certain Hot-Rolled Steel Flat Products from the Republic of Turkey: Affirmative Preliminary Determination of Sales at Less Than Fair Value and Postponement of Final Determination, 81 FR 15231 (March 22, 2016), and accompanying Preliminary Decision Memorandum at 6 unchanged in Certain Hot-Rolled Steel Flat Products From the Republic of Turkey: Final Determination of Sales at Less Than Fair Value, 81 FR 53428 (August 12, 2016).

⁹ See Preliminary Decision Memorandum.

¹⁰ See Heavy Walled Rectangular Welded Carbon Steel Pipes and Tubes From the Republic of Turkey: Preliminary Results of Antidumping Duty Administrative Review and Preliminary Determination of No Shipments; 2017-2018, 84 FR 34863 (July 19, 2019), and accompanying Preliminary Decision Memorandum at 4.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.”

In this review, we have preliminarily calculated a weighted-average dumping margin for Colakoglu that is not zero, de minimis, or determined entirely on the basis of facts available. Accordingly, we have preliminarily assigned to the companies not individually examined a margin of 2.55 percent, which is Colakoglu's weighted-average dumping margin.

Preliminary Results

We preliminarily determine the following weighted-average dumping margins for the period October 1, 2017 through September 30, 2018:

Exporter or producer | Weighted-average dumping margin (percent)
Colakoglu Metalurji A.S. and Colakoglu Dis Ticaret A.S | 2.55
Agir Haddecilik A.S | 2.55
Cag Celik Demir ve Celik | 2.55
Gazi Metal Mamulleri Sanayi Ve Ticaret A.S | 2.55
Habas Industrial and Medical Gases Production Industries Inc | 2.55
Habas Sinai ve Tibbi Gazlar Istihsal Endustrisi | 2.55
MMK Atakas Metalurji | 2.55
Ozkan Iron and Steel Ind | 2.55
Seametal San ve Dis Tic | 2.55
Tosyali Holding (Toscelik Profile and Sheet Ind. Co., Toscelik Profil ve Sac) | 2.55

Assessment Rates

Upon issuance of the final results, Commerce shall determine, and U.S. Customs and Border Protection (CBP) shall assess, antidumping duties on all appropriate entries covered by this review. Pursuant to 19 CFR 351.212(b)(1), we calculated an importer-specific ad valorem duty assessment rate based on the ratio of the total amount of dumping calculated for the examined sales to the total entered value of those sales. Where the mandatory respondent did not report entered value, we calculated the entered value in order to calculate the assessment rate. Where either the respondent's weighted-average dumping margin is zero or de minimis within the meaning of 19 CFR 351.106(c)(1), or an importer-specific assessment rate is zero or de minimis, we will instruct CBP to liquidate the appropriate entries without regard to antidumping duties.

For the companies which were not selected for individual review, we will assign an assessment rate equal to the weighted-average dumping margin determined for the non-examined companies in the final results of this review.

For entries of subject merchandise during the POR produced by the respondent for which it did not know that its merchandise was destined for the United States, including for the Erdemir Group (which we have preliminarily found had no shipments during the POR), we will instruct CBP to liquidate such unreviewed entries at the all-others rate if there is no rate for the intermediate company(ies) involved in the transaction.

The final results of this review shall be the basis for the assessment of antidumping duties on entries of merchandise covered by the final results of this review and for future deposits of estimated duties, where applicable.¹¹

¹¹ See section 751(a)(2)(C) of the Act.

We intend to issue liquidation instructions to CBP 15 days after publication of the final results of this review.

Cash Deposit Requirements

The following deposit requirements will be effective for all shipments of the subject merchandise entered, or withdrawn from warehouse, for consumption on or after the publication date of the final results of this administrative review, as provided by section 751(a)(2)(C) of the Act: (1) The cash deposit rate for each specific company listed above will be equal to each company's weighted-average dumping margin established in the final results of this review, except if the rate is less than 0.50 percent, and therefore de minimis within the meaning of 19 CFR 351.106(c)(1), in which case the cash deposit rate will be zero; (2) for previously investigated companies not participating in this review, the cash deposit will continue to be the company-specific rate published for the most recently completed segment of this proceeding in which the company participated; (3) if the exporter is not a firm covered in this review, or the underlying investigation, but the producer is, then the cash deposit rate will be the rate established for the completed segment for the most recent POR for the producer of the merchandise; and (4) the cash deposit rate for all other producers or exporters will continue to be 6.41 percent, the all-others rate established in the underlying investigation.¹² These deposit requirements, when imposed, shall remain in effect until further notice.

¹² See Order, 81 FR at 67965.

Disclosure and Public Comment

Commerce intends to disclose the calculations performed in connection with these preliminary results to interested parties within five days after the date of publication of this notice.¹³

¹³ See 19 CFR 351.224(b).

Interested parties may submit case briefs not later than 30 days after the date of publication of this notice.¹⁴ Rebuttal briefs, limited to issues raised in the case briefs, may be filed no later than five days after the time limit for filing case briefs.¹⁵ Parties who submit case briefs or rebuttal briefs in this proceeding are encouraged to submit with each argument: (1) A statement of the issue; (2) a brief summary of the argument; and (3) a table of authorities.¹⁶ Case and rebuttal briefs should be filed using ACCESS.¹⁷

¹⁴ See 19 CFR 351.309(c)(1)(ii); see also 19 CFR 351.303 (for general filing requirements).

¹⁵ See 19 CFR 351.309(d)(1).

¹⁶ See 19 CFR 351.309(c)(2) and (d)(2).

¹⁷ See 19 CFR 351.303.

Pursuant to 19 CFR 351.310(c), interested parties who wish to request a hearing must submit a written request to the Assistant Secretary for Enforcement and Compliance, filed electronically via ACCESS. An electronically-filed request for a hearing must be received successfully in its entirety by ACCESS by 5 p.m. Eastern Time within 30 days after the date of publication of this notice.¹⁸ Hearing requests should contain: (1) The party's name, address, and telephone number; (2) the number of participants; and (3) a list of issues to be discussed. Issues raised in the hearing will be limited to issues raised in the briefs. If a request for a hearing is made, parties will be notified of the time and date for the hearing to be held at the U.S. Department of Commerce, 1401 Constitution Avenue NW, Washington, DC 20230.¹⁹

¹⁸ See 19 CFR 351.310(c); see also 19 CFR 351.303(b)(1).

¹⁹ See 19 CFR 351.310(c).

Commerce intends to issue the final results of this administrative review, including the results of its analysis of issues raised in any written briefs, not later than 120 days after the publication of these preliminary results in the Federal Register, unless otherwise extended.²⁰

²⁰ See section 751(a)(3)(A) of the Act.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act.

Dated: December 10, 2019.
Jeffrey I. Kessler,
Assistant Secretary for Enforcement and Compliance.

Appendix

List of Topics Discussed in the Preliminary Decision Memorandum

I. Summary

II. Background

III. Scope of the Order

IV. Companies Not Selected for Individual Examination

V. Preliminary Determination of No Shipments

VI. Comparisons to Normal Value

VII. Date of Sale

VIII. Constructed Export Price

IX. Normal Value

X. Currency Conversion

XI. Recommendation

[FR Doc. 2019-27137 Filed 12-16-19; 8:45 am]

BILLING CODE 3510-DS-P